LEGAL SERVICES CORPORATION

Sunshine Act Meetings

TIME AND DATE: The Finance Committee of the Legal Services Corporation Board of Directors will meet virtually on September 23, 2024. The Finance Committee meeting will begin at 1:00 p.m. EDT and will continue until the conclusion of the Committee's agenda.

PLACE: Public Notice of Virtual Meeting.

STATUS: Closed to public observation.

MATTERS TO BE CONSIDERED: A verbatim written transcript will be made of the closed session of the Board meeting. The transcript of any portions of the closed session falling within the relevant provisions of the Government in the Sunshine Act, 5 U.S.C. 552b(c)(2) and(c)(6) will not be available for public inspection. A copy of the General Counsel's certification that, in his opinion, the closing is authorized by law will be available upon request.

MATTERS TO BE CONSIDERED: Matters to be discussed include the proposed collective bargaining agreement between LSC Management and its employee union and a resolution authorizing a working capital line of credit.

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: September 12, 2024.
Stefanie Davis,
Deputy General Counsel, Legal Services Corporation.

[FR Doc. 2024-21161 Filed 9-13-24; 11:15 am]

BILLING CODE 7050-01-P